DEPARTMENT OF HOMELAND SECURITY

Federal Emergency Management Agency

[Docket ID FEMA-2021-0021]

Request for Information on the National Flood Insurance Program's Community Rating System Extension of Comment Period

AGENCY: Federal Emergency Management Agency, Department of Homeland Security.

ACTION: Extension of comment period.

SUMMARY: The Federal Emergency Management Agency (FEMA) is extending the public comment period for its request for information published August 23, 2021 on the National Flood Insurance Program's (NFIP) Community Rating System (CRS). The request for information seeks public input on transforming the CRS program to better align with the current understanding of flood risk and flood risk approaches, and to incentivize communities not only to manage but also lower their flood risk through floodplain management initiatives.

DATES: Written comments on the request for information published at 86 FR 47128 (Aug. 23, 2021) may be submitted until 11:59 p.m. Eastern Time (ET) on Friday, October 22, 2021.

ADDRESSES: Written comments on the request for information must be submitted via the Federal eRulemaking Portal at https://www.regulations.gov. Search for FEMA-2021-0021-0001 and follow the instructions for submitting comments. All written comments received, including any personal information provided, may be posted without alteration at https://www.regulations.gov. For access to the docket and to read comments received by FEMA, go to https://www.regulations.gov and search for Docket ID FEMA-2021-0021.

FOR FURTHER INFORMATION CONTACT: Rachel Sears, Supervisory Emergency Management Specialist, Federal Insurance and Mitigation Administration, Federal Emergency Management Agency, FEMA-CRS-Next@fema.dhs.gov, 202-212-3800.

SUPPLEMENTARY INFORMATION: On August 23, 2021, FEMA published a Request for Information on the National Flood Insurance Program's Community Rating System.¹ In that RFI, FEMA asked for public input on the ways the agency can improve the CRS program: (1) To better align the CRS program with the improved understanding of flood risk and flood risk approaches that have developed since the program's inception; (2) to better incentivize communities and policyholders to become more resilient and to not only manage, but lower their vulnerability to flood risk, and (3) to support the sound financial framework of the NFIP.

¹ 86 FR 47128. Commenters may reference the Request for Information for a general description of the CRS program.

FEMA is extending the comment period to ensure all interested parties have sufficient opportunity to provide comments on the CRS program. For the details on this request, please see the RFI published at 86 FR 47128. FEMA will carefully consider all relevant comments received during the entire comment period, including comments received after September 22, 2021.

The purpose of the request for information is to seek input on the NFIP's CRS program. Individuals cannot apply for FEMA assistance by submitting a comment to this request for information. If you are an individual who has been impacted by a disaster and you are seeking assistance from FEMA, please visit http://www.fema.gov/assistance/individual or call the FEMA Helpline (1-800-621-3362/TTY (800) 462-7585) to apply or receive information on a pending request.

Deanne Criswell,
Administrator, Federal Emergency Management Agency.

[FR Doc. 2021-20543 Filed 9-21-21; 8:45 am]

BILLING CODE 9111-47-P